DEPARTMENT OF TRANSPORTATION

Federal Aviation Administration

14 CFR Part 91

[Docket No. FAA-2010-0995; Amendment No. 91-319]

Airports/Locations: Special Operating Restrictions

AGENCY: Federal Aviation Administration (FAA), DOT.

ACTION: Final rule; technical amendment.

SUMMARY: The FAA is amending its airports and locations special operating restrictions regulation to clarify a minor discrepancy in terminology. This amendment standardizes the language used to describe the altitude at which aircraft operating within 30 nautical miles of the listed airports are required to be equipped with an altitude encoding transponder. This action is not making any substantive changes to the regulation.

DATES: Effective: October 6, 2010.

FOR FURTHER INFORMATION CONTACT: Ellen Crum, Air Traffic Systems Operations, Airspace and Rules Group, 800 Independence Ave. SW., Washington, DC 20591; telephone (202) 267-8783; e-mail ellen.crum@faa.gov.

SUPPLEMENTARY INFORMATION:

Background

On November 30, 1999 (64 FR 66768), the FAA published a final rule that revised 14 CFR part 91. In the final rule, § 91.215(b)(2) states “* * *from the surface upward to 10,000 MSL* * *” The corresponding text in section 1 of Appendix D should be consistent in describing the altitude as “MSL” but inadvertently was changed from MSL to “above the surface.” Therefore, this action will correct this inconsistency and change the phrase from “above the surface” to “MSL” in section 1 of Appendix D.

As this rule simply corrects an inconsistency in the terminology used to describe altitudes, good cause exists for adopting this amendment without public notice or comment as provided under 5 U.S.C. 553(b). Furthermore, the FAA finds that good cause exists pursuant to 5 U.S.C. 553(d) for making this rule effective within less than 30 days.

List of Subjects in 14 CFR Part 91

Air traffic control, Aircraft, Airmen, Airports, Aviation safety.

The Amendment

In consideration of the foregoing, the Federal Aviation Administration amends Chapter I of Title 14, Code of Federal Regulations, as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

2. Amend Appendix D to Part 91 by revising section 1 introductory text to read as follows:

Appendix D to Part 91—Airports/Locations: Special Operating Restrictions

Section 1. Locations at which the requirements of § 91.215(b)(2) and § 91.225(d)(2) apply. The requirements of §§ 91.215(b)(2) and 91.225(d)(2) apply below 10,000 feet MSL within a 30-nautical-mile radius of each location in the following list.

* * * * *

Issued in Washington, DC, on October 1, 2010.
Pamela Hamilton-Powell,
Director, Office of Rulemaking.

[FR Doc. 2010-25102 Filed 10-5-10; 8:45 am]

BILLING CODE 4910-13-P